DEPARTMENT OF THE INTERIOR

Fish and Wildlife Service

[FWS-R1-R-2011-N089; 1265-0000-10137-S3]

Cold Springs and McKay Creek National Wildlife Refuges, Umatilla County, OR; Comprehensive Conservation Plan and Environmental Assessment

AGENCY: Fish and Wildlife Service, Interior.

ACTION: Notice of intent; request for comments.

SUMMARY: We, the U.S. Fish and Wildlife Service (Service) intend to prepare a comprehensive conservation plan (CCP) and environmental assessment (EA) for Cold Springs and McKay Creek National Wildlife Refuges, located in Umatilla County, Oregon. We provide this notice in compliance with our CCP policy to advise other Federal and State agencies, Tribes, and the public of our intentions and to obtain suggestions and information on the scope of issues to consider in the planning process.

DATES: To ensure consideration, please provide your written comments by August 12, 2011.

ADDRESSES: Send your comments or requests for more information by any of the following methods:

• E-mail: mcriver@fws.gov. Include “Cold Springs and McKay Creek NWRs CCP” in the subject line of the message.

• Fax: Attn: Lamont Glass, Refuge Manager, (509) 546-8303.

• U.S. Mail: Mid Columbia River National Wildlife Refuge Complex, Cold Springs and McKay Creek CCP, 64 Maple Street, Burbank, WA 99323.

• In-Person Drop-off: You may drop off comments during regular business hours at the above address.

FOR FURTHER INFORMATION CONTACT: Lamont Glass, Refuge Manager, Cold Springs and McKay Creek National Wildlife Refuges, (509) 546-8313 (phone), lamont_glass@fws.gov (e-mail).

SUPPLEMENTARY INFORMATION:

Introduction

With this notice, we initiate our process for developing a CCP for Cold Springs and McKay Creek National Wildlife Refuges (NWRs), in Umatilla County, Oregon. This notice complies with our CCP policy to (1) Advise other Federal and State agencies, Tribes, and the public of our intention to conduct detailed planning on these refuges and (2) obtain suggestions and information on the scope of issues to consider in the environmental document and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of Cold Springs and McKay Creek NWRs.

We will conduct the environmental review of this project and develop an EA in accordance with the requirements of the National Environmental Policy Act of 1969, as amended (NEPA) (42 U.S.C. 4321 et seq.); NEPA regulations (40 CFR Parts 1500-1508); other appropriate Federal laws and regulations; and our policies and procedures for compliance with those laws and regulations.

Cold Springs National Wildlife Refuge

Cold Springs NWR covers 3,117 acres of rich and diverse wetland habitats, surrounded by upland habitat of big sagebrush and native steppe grasses. Cold Springs NWR was created by President Theodore Roosevelt on February 25, 1909, as “preserves and breeding grounds for native birds” and “for use as an inviolate sanctuary, or for any other management purpose, for migratory birds.” It overlays Cold Springs Reservoir, a U.S. Bureau of Reclamation (BOR) storage facility, the primary source of irrigation water for local agriculture. The Service manages the lands, whereas the reservoir's water levels are regulated by the BOR. Full pool occurs in May with 1,550 acres of open water. By late August, an average of only 200 acres of water remain.

A mix of several distinct habitat types—open water, riparian, shrub-steppe upland, and seasonal wetlands—attracts a variety of wildlife to the refuge. The open water habitat of the reservoir provides isolation for the resting needs of migrating waterfowl. Large numbers of waterfowl, primarily Canada geese and mallards, can be seen on the open water in winter. They move between the reservoir and the river daily, looking for food or quiet space.

Dense, wide stands of cottonwoods and willows represent the riparian zones on Cold Springs NWR. The area where water meets the land is especially important as it offers wildlife food and shelter choices. The thick underbrush provides excellent habitat for many species of songbirds and is a good place to look for deer, elk, and other animals feeding or resting.

The shrub-steppe upland consists of sagebrush, bitterbrush, rabbitbrush, and native bunchgrasses. Mule deer, coyote, badger, ring-necked pheasant, California quail, and the small resident elk herd can be seen using the uplands throughout the year. Swainson's, Cooper's, and red-tailed hawks and American kestrels may be seen soaring over the uplands.

McKay Creek National Wildlife Refuge

McKay Creek NWR covers 1,837 acres nestled between the plains and the Blue Mountains of eastern Oregon. The refuge was established by President Calvin Coolidge on June 7, 1929, as “a refuge and breeding ground for birds * * * subject to the use * * * for grazing, and to any other valid existing rights.” It overlays the McKay Creek Reservoir, a BOR storage facility, serving the irrigation needs of the Umatilla River Basin. The Service manages the lands, whereas the water levels are regulated by the BOR. At full pool the refuge consists of 1,300 acres of water and 537 acres of upland habitat. By late September, an average of 250 acres of water remains at minimum pool.

The refuge serves as a recreational destination for residents of nearby Pendleton, Oregon, receiving over 50,000 visitors annually. The majority of visitors engage in fishing. Upland bird hunting is also popular, with many area hunters taking part in the annual pursuit of pheasant and quail. Other visitors simply enjoy bird watching, wildlife photography, or nature.

The mix of several distinct habitat types, including open water, riparian, and upland grasslands, along with the lack of other local wetland habitats, elevates the importance of this refuge as a home to a variety of wildlife and plant species. Aquatic habitats and open water serve as resting and feeding grounds for wintering waterfowl, wading birds, and migrating shorebirds. During peak winter migration, the refuge historically supported large numbers of waterfowl. Mallards and Canada geese comprise the majority of waterfowl, while American wigeon, green-winged teal, and pintail account for smaller numbers.

Thick stands of willow and cottonwood represent the riparian zone—the areas on the refuge where land meets water, which are especially important to wildlife as they offers a variety of food and shelter. Osprey nest in the cottonwoods, and bald eagles frequent the area in fall and winter. The thick underbrush provides excellent habitat for many species of songbirds, like yellow warblers and song sparrows, and is a good place for deer and small animals to feed and rest. During the late summer drawdown, migrating shorebirds can be seen probing the exposed mudflats in search of high energy foods, while colonial nesting birds, like great blue herons and egrets, stand still, waiting for prey.

The surrounding upland grassland community comprises the remaining refuge habitat and consists of a mix of grasses and forbs, including wheatgrass and fescues. A variety of wildlife species can be seen using the uplands throughout the year: ring-necked pheasant, quail, mule deer, songbirds, and hawks.

Scoping: Preliminary Issues, Concerns, and Opportunities

We have identified preliminary issues, concerns, and opportunities for the refuges that we may address in the CCP. We have briefly summarized these issues below. During public scoping, we may identify additional issues.

Cold Springs NWR and McKay Creek NWR

The decline of waterfowl use at the refuges; management of wetland habitats to best benefit waterfowl and other wildlife species; management for long-term viability of riparian habitat; providing benefits to shrub-steppe or grassland obligate species; management of non-wildlife-oriented recreational activities given the increasing visitation at the refuges; increasing the understanding of the natural and cultural resources of the refuges; control of invasive and non-native species; determining if big game hunting is a viable public use at either or both refuges; effective law enforcement; the impacts of climate change and increasing development; monitoring and control of mosquitoes and related human health hazards.

Public Comments

Opportunities for the public to provide input will be announced in press releases, planning updates, and on our Web sites at http://www.fws.gov/mcriver, http://www.fws.gov/coldsprings/management.html, and http://www.fws.gov/mckaycreek/management.html. There will be additional opportunities to provide public input throughout the CCP process.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 17, 2011.
Richard R. Hannan,
Acting Regional Director, Region 1, Portland, Oregon.

[FR Doc. 2011-17423 Filed 7-12-11; 8:45 am]

BILLING CODE 4310-55-P